DEPARTMENT OF HEALTH AND HUMAN SERVICES

Office of the Assistant Secretary for Management and Budget; Notice or Availability of Revised Inventory of Commercial Activities

ACTION: Notice of availability of revised inventory of commercial activities.

SUMMARY: Notice is hereby given, in compliance with sec. 2(c)(2) of the Federal Activities Inventory Reform Act, Public Law 105-270, that the commercial activities inventory of the Department of Health and Human Services, originally made public on September 30, 1999, has been changed as a result of a challenge from an interested party. The change affects only 31 FTE's, which were removed from the portion of the inventory pertaining to the program Support Center. All other parts of the inventory remain unchanged. The entire inventory is available for public inspection on the DHHS website, at www.hhs.gov/progorg/oam/fair.

FOR FURTHER INFORMATION CONTACT: Mike Colvin, Office of Acquisition Management, Office of the Assistant Secretary for Management and Budget, 202-690-7887.

Dated: February 16, 2000.
John J. Callahan,
Assistant Secretary for Management and Budget.

[FR Doc. 00-4163 Filed 2-22-00; 8:45 am]

BILLING CODE 4150-24-M